NATIONAL CREDIT UNION ADMINISTRATION

Written Reimbursement Policy

AGENCY: National Credit Union Administration (NCUA).

ACTION: Request for comment.

SUMMARY: The NCUA intends to submit the following information collection to the Office of Management and Budget (OMB) for review and clearance under the Paperwork Reduction Act of 1995 (Pub. L. 104-13, 44 U.S.C. chapter 35). The purpose of this notice is to allow for 60 days of public comment.

Each FCU must draft a written reimbursement policy to ensure that the FCU makes payments to its director within the guidelines that the FCU has established in advance and to enable examiners to easily verify compliance by comparing the policy to the actual reimbursements.

DATES: Comments will be accepted until October 7, 2016.

ADDRESSES: Interested persons are invited to submit written comments on the information collection to Troy Hillier, National Credit Union Administration, 1775 Duke Street, Alexandria, Virginia 22314-3428; Fax No. 703-519-8595; or Email at PRAComments@NCUA.gov.

FOR FURTHER INFORMATION CONTACT: Requests for additional information should be directed to the address above.

SUPPLEMENTARY INFORMATION:

OMB Number: 3133-0130.

Title: Written Reimbursement Policy.

Abstract: Federal Credit Unions (“FCU”) may reimburse its board members for reasonable and proper costs incurred in conducting their official responsibilities only if the reimbursement is in accordance with the written reimbursement policies and procedures established by the FCU's board of directors. Access to this plan, and documentation related to its implementation is necessary for NCUA examiners to verify compliance with this requirement.

Type of Review: Extension of a previously approved collection.

Affected Public: Private sector: Not-for-profit institutions.

Estimated Number of Respondents: 3,768.

Frequency of Response: 1 responses per year per respondent.

Estimated Burden Hours per Response: 0.5.

Estimated Total Annual Burden Hours: 1,890 burden hours.

Request for Comments: Comments submitted in response to this notice will be summarized and included in the request for Office of Management and Budget approval. All comments will become a matter of public record. The public is invited to submit comments concerning: (a) Whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on August 3, 2016.
Dated: August 3, 2016.
Troy S. Hillier,
NCUA PRA Clearance Officer.

[FR Doc. 2016-18750 Filed 8-5-16; 8:45 am]

BILLING CODE 7535-01-P